DEPARTMENT OF AGRICULTURE

Forest Service

Information Collection; Timber Sale Operating Plans

AGENCY: Forest Service, USDA.

ACTION: Notice; request for comment.

SUMMARY: In accordance with the Paperwork Reduction Act of 1995, the Forest Service is seeking comments from all interested individuals and organizations on the extension of a previously approved information collection for Timber Sale Operating Plans. The collected information will help the Forest Service facilitate contract administration of timber sales on National Forest System lands. Information will be collected from purchasers of this timber.

DATES: Comments must be received in writing on or before October 21, 2003.

ADDRESSES: All comments should be addressed to Rex Baumback, Forest and Rangelands Management, 1400 Independence Avenue, SW., Mail Stop 1105, Washington, DC 20250-1105.

Comments also may be submitted via facsimile to (202) 205-1045 or by e-mail to: rbaumback@fs.fed.us.

The public may inspect comments received in the Office of the Director, Forest and Rangelands Management Staff, Forest Service, USDA, Room 3NW, Yates Building, 1400 Independence Avenue, SW., Washington, DC. Visitors are urged to call ahead to (202) 205-0855 facilitate entrance into the building.

FOR FURTHER INFORMATION CONTACT: Rex Baumback, Timber Sale Contract Administration Specialist, Forest and Rangelands Management, at (202) 205-0855.

SUPPLEMENTARY INFORMATION:

Description of Information Collection

The following describes the information collection to be extended:

Title: Timber Operating Plans.

OMB Number: 0596-0086.

Expiration Date of Approval: January 31, 2004.

Type of Request: Extension of an information collection previously approved by the Office of Management and Budget.

Abstract: The information collected is used by the agency to plan agency timber sale contract administration workload and to determine whether timber sale purchasers had scheduled operations delayed and; therefore, are eligible for an extension of the contract termination date. The information is required by timber sale contract provisions in Form FS 2400-6, Timber Sale Contract, and Form FS 2400-6T, Timber Sale Contract.

Respondents are National Forest System land timber sale purchasers who prepare a chart or letter within 60 days of a timber sale contract award, and annually thereafter until the contract is completed. The timber sale purchaser outlines timeframes and methods of accomplishing road construction, timber harvesting, and other contract requirements.

Forest Service personnel evaluate the collected information to facilitate timber sale contract administration and to determine eligibility for National Forest System land timber sale contract term extensions. Data gathered in this information collection are not available from other sources.

Estimate of Annual Burden: 30 minutes per response.

Type of Respondents: Purchasers of National Forest System timber.

Estimated Annual Number of Respondents: 2500.

Estimated Annual Number of Responses per Respondent: 1.5.

Estimated Total Annual Burden on Respondents: 1,875 hours.

Comment Is Invited

The agency invites comments on the following: (a) The necessity of the information collection for the stated purposes and the proper performance of the functions of the agency, including whether the information will have practical or scientific utility; (b) the accuracy of the agency's estimate of the burden of the proposed collection of information, including the validity of the methodology and assumptions used; (c) ways to enhance the quality, utility, and clarity of the information collected; and (d) ways to minimize the information collection burden on respondents, including the use of automated, electronic, mechanical, or other technological collection techniques or other forms of information technology.

Use of Comments

All comments received in response to this notice, including names and addresses when provided, will become a matter of public record. Comments will be summarized and included in the request for Office of Management and Budget approval.

Dated: August 15, 2003.
Abigail R. Kimbell,
Associate Deputy Chief, National Forest System.

[FR Doc. 03-21579 Filed 8-21-03; 8:45 am]

BILLING CODE 3410-11-P